DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Confidentiality of Alcohol and Drug Abuse Patient Records—(OMB No. 0930-0092)—Revision

Statute (42 U.S.C. 290dd-2) and regulations (42 CFR part 2) require federally conducted, regulated, or directly or indirectly assisted alcohol and drug abuse programs to keep alcohol and drug abuse patient records confidential. Information requirements are (1) written disclosure to patients about Federal laws and regulations that protect the confidentiality of each patient, and (2) documenting “medical personnel” status of recipients of a disclosure to meet a medical emergency. Annual burden estimates for these requirements are summarized in the table below:

Annualized Burden Estimates
| Annual number of respondents ¹ | Responses per respondent | Total responses | Hours per response | Total hour burden
Disclosure
42 CFR 2.22 | 11,770 | 147 | ² 1,725,625 | .20 | 345,125
Recordkeeping
42 CFR 2.51 | 11,770 | 2 | 23,540 | .167 | 3,931
Total | 11,770 |  | 1,749,165 |  | 349,056
¹ The number of publicly funded alcohol and drug facilities from SAMHSA's 2015 National Survey of Substance Abuse Treatment Services (N-SSATS).
² The average number of annual treatment admissions from SAMHSA's 2012-2014 Treatment Episode Data Set (TEDS).

Send comments to Summer King, SAMHSA Reports Clearance Officer, 5600 Fishers Lane, Room 15E57-B, Rockville, Maryland 20857, OR email a copy to summer.king@samhsa.hhs.gov. Written comments should be received by September 9, 2016.

Summer King,
Statistician.

[FR Doc. 2016-16312 Filed 7-8-16; 8:45 am]

BILLING CODE 4162-20-P